GENERAL SERVICES ADMINISTRATION

41 CFR Part 102-34

[FMR Amendment 2009-02; FMR Case 2006-102-1; Docket 2008-0001; Sequence 06]

RIN 3090-AH68

Federal Management Regulation; Motor Vehicle Management

AGENCY: Office of Governmentwide Policy, GSA.

ACTION: Final rule.

SUMMARY: The General Services Administration (GSA) is amending the Federal Management Regulation (FMR) by revising coverage of Motor Vehicle Management. This final rule is a result of comments received on an interim rule published in the Federal Register on May 12, 2006 (71 FR 27636), and from members of the Federal Fleet Policy Council (FEDFLEET). This final rule also incorporates other administrative changes.

DATES: Effective Date: This final rule is effective March 20, 2009.

FOR FURTHER INFORMATION CONTACT: The Regulatory Secretariat (VPR), Room 4041, GSA Building, Washington, DC 20405, telephone (202) 501-4755, for information pertaining to status or publication schedules. For clarification of content, contact Jim Vogelsinger, Office of Governmentwide Policy, Asset Management Policy (MTA), Washington, DC 20405, telephone (202) 501-1764. Please cite FMR Amendment 2009-02, FMR case 2006-102-1.

SUPPLEMENTARY INFORMATION:

A. Background

An Interim Rule was published in the Federal Register on May 12, 2006 (71 FR 27636). This final rule revises the FMR's coverage on Motor Vehicle Management (41 CFR part 102-34) to reflect the policy and administrative changes suggested by comments received on the interim rule from members of FEDFLEET. Other administrative changes will make the regulation accurately reflect current motor vehicle management terminology, update references, and clarify requirements.

This part has been renumbered. Deletions of and changes to previous sections follow:

Deleted § 102-34.20—What types of motor vehicle fleets are there? (The definitions for “Domestic fleet” and “Foreign fleet” are moved to § 102-34.35 of this regulation, and the definitions for “Small fleet” and “Large fleet” are deleted.)

Deleted § 102-34.25—What sources of supply are available for obtaining motor vehicles? (The definitions for “Motor vehicle purchase”, “Motor vehicle lease”, “Motor vehicle rental”, “GSA Fleet lease”, and “Motor vehicles transferred from excess” are moved to § 102-34.35 of this regulation.)

Deleted § 102-34.35—What are the procedures for purchasing and leasing motor vehicles? (This information may be found in 41 CFR subpart 101-26.5.)

Deleted § 102-34.55—What are the minimum fleet average fuel economy standards? (The standards for passenger automobiles are prescribed in 49 U.S.C. 32902(b), and the Department of Transportation publishes the standards for light trucks and amendments for passenger automobiles at http://www.dot.gov.)

Deleted § 102-34.70—How does GSA monitor the fuel economy of purchased and leased motor vehicles? (This is replaced with § 102-34.75 of this regulation.)

Deleted § 102-34.75—How must we report fuel economy data for passenger automobiles and light trucks we purchase or commercially lease? (This is replaced with § 102-34.75 of this regulation.)

Deleted § 102-34.80—Do we report fuel economy data for passenger automobiles and light trucks purchased for our agency by the GSA Automotive Division? (This is replaced with § 102-34.75 of this regulation.)

Deleted § 102-34.85—Do we have to submit a negative report if we don't purchase or lease any motor vehicles in a fiscal year? (This is replaced with § 102-34.75 of this regulation.)

Deleted § 102-34.90—Are any motor vehicles exempted from these reporting requirements? (This is replaced with § 102-34.75 of this regulation.)

Deleted § 102-34.95—Does fleet average fuel economy reporting affect our acquisition plan? (This is replaced with § 102-34.75 of this regulation.)

Deleted § 102-34.340—Do I have to use self-service fuel pumps? (This is removed because certain States do not have self-service pumps and the cost of self-service might not be higher than full-service.)

Deleted § 102-34.355—When and how do we report motor vehicle data? (This is replaced with § 102-34.335 of this regulation.)

The definition of motor vehicle identification is revised to remove the text referring to such identification usually consisting of a decal placed in the rear window or on the side of the motor vehicle. Placement of such identification is governed by § 102-34.100 of this regulation.

The definition of reportable motor vehicles is revised to include any commercial design motor vehicle (including ambulances and firetrucks) designed and operated principally for highway transportation of property or passengers. This change is made to improve the accuracy and visibility of motor vehicle assets.

This regulation requires executive agencies to establish and document a structured vehicle allocation methodology. This is a best practice of many fleet operators that is intended to help fleet managers determine the appropriate size and number of vehicles in a fleet.

Records maintenance for agency average fuel economy data is revised to follow the standard for motor vehicle report files established in General Records Schedule 10 by the National Archives and Records Administration. This will provide consistent data documentation for fuel economy data.

Lost or stolen license plates now must be reported to appropriate authorities. This requirement seeks to improve the accountability of license plates and also requires reporting to the Federal Government Motor Vehicle Registration System, when it becomes available, to improve internal Government control of lost or stolen plates.

The unlimited exemption from the requirement to display motor vehicle identification is revised to exempt motor vehicles used primarily for investigative, law enforcement, intelligence, or security duties. The limited exemption extends to a period not to exceed three years as opposed to the former regulation which had a one year limit. This change seeks to recognize the need for protecting agency missions and occupant safety and to reduce the administrative burden of processing exemptions while maintaining the objective that Federal motor vehicles are required to be conspicuously identified unless exempted (see 40 U.S.C. 609). The regulatory note containing the list of executive agencies with special exemptions from motor vehicle identification is removed, as this list can be found by referencing 5 U.S.C. 101. The Department of Defense (DOD) code and registration number assigned by the DOD component accountable for the motor vehicle previously was required identification but is removed from this regulation. This change provides flexibility for DOD to determine any other identification to display.

A new provision reflects the statutory provision in 31 U.S.C. 1344 authorizing the use of Government motor vehicles for transportation between places of employment and mass transit facilities. This provision implements the 2005 Safe, Accountable, Flexible, Efficient Transportation Equity Act: A Legacy for Users (SAFETEA-LU), § 3049(b)(1)-(2) of Public Law No. 109-59, 31 U.S.C. 1344(g).

B. Executive Order 12866

This regulation is excepted from the definition of “regulation” or “rule” under Section 3(d)(3) of Executive Order 12866, Regulatory Planning and Review, dated September 30, 1993 and, therefore, was not subject to review under Section 6(b) of that Executive Order.

C. Regulatory Flexibility Act

This final rule is not required to be published in the Federal Register for notice and comment as per the exemption specified in 5 U.S.C. 553(a)(2); therefore, the Regulatory Flexibility Act, 5 U.S.C. 601, et seq., does not apply.

D. Paperwork Reduction Act

The Paperwork Reduction Act does not apply because this final rule does not impose recordkeeping or information collection requirements, or the collection of information from offerors, contractors, or members of the public that require the approval of the Office of Management and Budget under 44 U.S.C. 3501 et seq.

E. Small Business Regulatory Enforcement Fairness Act

This final rule is also exempt from Congressional review prescribed under 5 U.S.C. 801 since it relates solely to agency management and personnel.

List of Subjects in 41 CFR Part 102-34

Energy conservation, Government property management, Motor vehicles, Reporting and recordkeeping requirements.

Dated: January 27, 2009.
Paul F. Prouty,
Acting Administrator of General Services.

For the reasons set out in the preamble, 41 CFR part 102-34 is revised to read as set forth below:

PART 102-34—MOTOR VEHICLE MANAGEMENT

Subpart A—General Provisions
Sec.
102-34.5 What does this part cover?
102-34.10 What are the governing authorities for this part?
102-34.15 Who must comply with these provisions?
102-34.20 What motor vehicles are not covered by this part?
102-34.25 To whom do “we”, “you”, and their variants refer?
102-34.30 How do we request a deviation from the provisions of this part?
Definitions
02-34.35 What definitions apply to this part?
Subpart B—Obtaining Fuel Efficient Motor Vehicles
102-34.40 Who must comply with motor vehicle fuel efficiency requirements?
102-34.45 How are passenger automobiles classified?
102-34.50 What size motor vehicles may we obtain?
102-34.55 Are there fleet average fuel economy standards we must meet?
102-34.60 How do we calculate the average fuel economy for Government motor vehicles?
102-34.65 How may we request an exemption from the fuel economy standards?
102-34.70 What do we do with completed calculations of our fleet vehicle acquisitions?
102-34.75 Who is responsible for monitoring our compliance with fuel economy standards for motor vehicles we obtain?
102-34.80 Where may we obtain help with our motor vehicle acquisition plans?
Subpart C—Identifying and Registering Motor Vehicles
Motor Vehicle Identification
102-34.85 What motor vehicles require motor vehicle identification?
102-34.90 What motor vehicle identification must we display on Government motor vehicles?
102-34.95 What motor vehicle identification must the Department of Defense (DOD) display on motor vehicles it owns, or leases commercially?
102-34.100 Where is motor vehicle identification displayed?
102-34.105 Before we sell a motor vehicle, what motor vehicle identification must we remove?
License Plates
102-34.110 Must Government motor vehicles use Government license plates?
102-34.115 Can official U.S. Government license plates be used on motor vehicles not owned or leased by the Government?
102-34.120 Do we need to register Government motor vehicles?
102-34.125 Where may we obtain U.S. Government license plates?
102-34.130 How do we display U.S. Government license plates on Government motor vehicles?
102-34.135 What do we do about a lost or stolen license plate?
102-34.140 What records do we need to keep on U.S. Government license plates?
102-34.145 How are U.S. Government license plates coded?
102-34.150 How can we get a new license plate code designation?
Identification Exemptions
102-34.155 What are the types of motor vehicle identification exemptions?
102-34.160 May we have a limited exemption from displaying U.S. Government license plates and other motor vehicle identification?
102-34.165 What information must the limited exemption certification contain?
102-34.170 For how long is a limited exemption valid?
102-34.175 What motor vehicles have an unlimited exemption from displaying U.S. Government license plates and motor vehicle identification?
102-34.180 What agencies have a special exemption from displaying U.S. Government license plates and motor vehicle identification on some of their vehicles?
102-34.185 What license plates do we use on motor vehicles that are exempt from motor vehicle identification requirements?
102-34.190 What special requirements apply to exempted motor vehicles using District of Columbia or State license plates?
102-34.195 Must we submit a report concerning motor vehicles exempted under this subpart?
Subpart D—Official Use of Government Motor Vehicles
102-34.200 What is official use of Government motor vehicles?
102-34.205 May I use a Government motor vehicle for transportation between my residence and place of employment?
102-34.210 May I use a Government motor vehicle for transportation between places of employment and mass transit facilities?
102-34.215 May Government contractors use Government motor vehicles?
102-34.220 What does GSA do if it learns of unofficial use of a Government motor vehicle?
102-34.225 How are Federal employees disciplined for misuse of Government motor vehicles?
102-34.230 How am I responsible for protecting Government motor vehicles?
102-34.235 Am I bound by State and local traffic laws?
102-34.240 Who pays for parking fees?
102-34.245 Who pays for parking fines?
102-34.250 Do Federal employees in Government motor vehicles have to use all safety devices and follow all safety guidelines?
Subpart E—Replacement of Motor Vehicles
102-34.255 What are motor vehicle replacement standards?
102-34.260 May we replace a Government-owned motor vehicle sooner?
102-34.265 May we keep a Government-owned motor vehicle even though the standard permits replacement?
102-34.270 How long must we keep a Government-owned motor vehicle?
Subpart F—Scheduled Maintenance of Motor Vehicles
102-34.275 What kind of maintenance programs must we have?
102-34.280 What State inspections must we have for Government motor vehicles?
102-34.285 Where can we obtain help in setting up a maintenance program?
Subpart G—Motor Vehicle Crash Reporting
102-34.290 What forms do I use to report a crash involving a domestic fleet motor vehicle?
102-34.295 To whom do we send crash reports?
Subpart H—Disposal of Motor Vehicles
102-34.300 How do we dispose of a domestic fleet motor vehicle?
102-34.305 What forms do we use to transfer ownership when selling a motor vehicle?
102-34.310 How do we distribute the completed Standard Form 97?
Subpart I—Motor Vehicle Fueling
102-34.315 How do we obtain fuel for Government motor vehicles?
102-34.320 What Government-issued charge cards may I use to purchase fuel and motor vehicle related services?
102-34.325 What type of fuel do I use in Government motor vehicles?
Subpart J—Federal Fleet Report
102-34.330 What is the Federal Fleet Report?
102-34.335 How do I submit information to the General Services Administration (GSA) for the Federal Fleet Report (FFR)?
102-34.340 Do we need a fleet management information system?
102-34.345 What records do we need to keep?
Subpart K—Forms
102-34.350 How do we obtain the forms prescribed in this part?

Authority: 40 U.S.C. 121(c); 40 U.S.C. 17503; 31 U.S.C. 1344; 49 U.S.C. 32917; E.O. 12375.

Subpart A—General Provisions

§ 102-34.5 What does this part cover?

This part governs the economical and efficient management and control of motor vehicles that the Government owns, leases commercially or leases through GSA Fleet. Agencies will incorporate appropriate provisions of this part into contracts offering Government-furnished equipment in order to ensure adequate control over the use of motor vehicles.

§ 102-34.10 What are the governing authorities for this part?

The authorities for the regulations in this part are 40 U.S.C. 121(c), 40 U.S.C. 17503, 31 U.S.C. 1344, 49 U.S.C. 32917, and E.O. 12375.

§ 102-34.15 Who must comply with these provisions?

All executive agencies must comply with the provisions of this part. The legislative and judicial branches are encouraged to follow these provisions.

§ 102-34.20 What motor vehicles are not covered by this part?

Motor vehicles not covered by this part are:

(a) Military design motor vehicles;

(b) Motor vehicles used for military field training, combat, or tactical purposes;

(c) Motor vehicles used principally within the confines of a regularly established military post, camp, or depot; and

(d) Motor vehicles regularly used by an agency to perform investigative, law enforcement, or intelligence duties, if the head of the agency determines that exclusive control of the vehicle is essential for effective performance of duties, although such vehicles are subject to subpart D and subpart J of this part.

§ 102-34.25 To whom do “we”, “you”, and their variants refer?

Unless otherwise indicated, use of pronouns “we”, “you”, and their variants throughout this part refer to you as an executive agency, as your agency's fleet manager, or as a motor vehicle user or operator, as appropriate.

§ 102-34.30 How do we request a deviation from the provisions of this part?

Refer to §§ 102-2.60 through 102-2.110 of this chapter for information on how to obtain a deviation from this part.

Definitions

§ 102-34.35 What definitions apply to this part?

The following definitions apply to this part:

Commercial design motor vehicle means a motor vehicle procurable from regular production lines and designed for use by the general public.

Commercial lease or lease commercially means obtaining a motor vehicle by contract or other arrangement from a commercial source for 60 continuous days or more. (Procedures for purchasing and leasing motor vehicles through GSA can be found in 41 CFR subpart 101-26.5.)

Domestic fleet means all reportable motor vehicles operated in any State, Commonwealth, territory or possession of the United States, and the District of Columbia.

Foreign fleet means all reportable motor vehicles operated in areas outside any State, Commonwealth, territory or possession of the United States, and the District of Columbia.

Government motor vehicle means any motor vehicle that the Government owns or leases. This includes motor vehicles obtained through purchase, excess, forfeiture, commercial lease, or GSA Fleet lease.

Government-owned motor vehicle means any motor vehicle that the Government has obtained through purchase, excess, forfeiture, or otherwise and for which the Government holds title.

GSA Fleet lease means obtaining a motor vehicle from the General Services Administration Fleet (GSA Fleet).

Law enforcement motor vehicle means a light duty motor vehicle that is specifically approved in an agency's appropriation act for use in apprehension, surveillance, police or other law enforcement work or specifically designed for use in law enforcement. If not identified in an agency's appropriation language, a motor vehicle qualifies as a law enforcement motor vehicle only in the following cases:

(1) A passenger automobile having heavy duty components for electrical, cooling and suspension systems and at least the next higher cubic inch displacement or more powerful engine than is standard for the automobile concerned;

(2) A light truck having emergency warning lights and identified with markings such as “police;”

(3) An unmarked motor vehicle certified by the agency head as essential for the safe and efficient performance of intelligence, counterintelligence, protective, or other law enforcement duties; or

(4) A forfeited motor vehicle seized by a Federal agency that is subsequently used for the purpose of performing law enforcement activities.

Light duty motor vehicle means any motor vehicle with a gross motor vehicle weight rating (GVWR) of 8,500 pounds or less.

Light truck means a motor vehicle on a truck chassis with a gross motor vehicle weight rating (GVWR) of 8,500 pounds or less.

Military design motor vehicle means a motor vehicle (excluding commercial design motor vehicles) designed according to military specifications to directly support combat or tactical operations or training for such operations.

Motor vehicle means any vehicle, self propelled or drawn by mechanical power, designed and operated principally for highway transportation of property or passengers, but does not include a military design motor vehicle or vehicles not covered by this part (see § 102-34.20).

Motor vehicle identification (also referred to as “motor vehicle markings”) means the legends “For Official Use Only” and “U.S. Government” placed on a motor vehicle plus other legends readily identifying the department, agency, establishment, corporation, or service by which the motor vehicle is used.

Motor vehicle markings (see definition of “Motor vehicle identification” in this section).

Motor vehicle purchase means buying a motor vehicle from a commercial source, usually a motor vehicle manufacturer or a motor vehicle manufacturer's dealership. (Procedures for purchasing and leasing motor vehicles through GSA can be found in 41 CFR subpart 101-26.5.)

Motor vehicle rental means obtaining a motor vehicle by contract or other arrangement from a commercial source for less than 60 continuous days.

Motor vehicles transferred from excess means obtaining a motor vehicle reported as excess and transferred with or without cost.

Owning agency means the executive agency that holds the vehicle title, manufacturer's Certificate of Origin, or is the lessee of a commercial lease. This term does not apply to agencies that lease motor vehicles from the GSA Fleet.

Passenger automobile means a sedan or station wagon designed primarily to transport people.

Reportable motor vehicles are any Government motor vehicles used by an executive agency or activity, including those used by contractors. Also included are motor vehicles designed or acquired for a specific or unique purpose, including motor vehicles that serve as a platform or conveyance for special equipment, such as a trailer. Excluded are material handling equipment and construction equipment not designed and used primarily for highway operation (e.g., if it must be trailered or towed to be transported).

Using agency means an executive agency that obtains motor vehicles from the GSA Fleet, commercial firms or another executive agency and does not hold the vehicle title or manufacturer's Certificate of Origin. However, this does not include an executive agency that obtains a motor vehicle by motor vehicle rental.

Subpart B—Obtaining Fuel Efficient Motor Vehicles

§ 102-34.40 Who must comply with motor vehicle fuel efficiency requirements?

(a) Executive agencies operating domestic fleets must comply with motor vehicle fuel efficiency requirements for such fleets.

(b) This subpart does not apply to motor vehicles exempted by law or other regulations, such as law enforcement or emergency rescue work and foreign fleets. Other Federal agencies are encouraged to comply so that maximum energy conservation benefits may be realized in obtaining, operating, and managing Government motor vehicles.

§ 102-34.45 How are passenger automobiles classified?

Passenger automobiles are classified in the following table:

Sedan class | Station wagon class | Descriptive name
I | I | Subcompact.
II | II | Compact.
III | III | Midsize.
IV | IV | Large.
V |  | Limousine.

§ 102-34.50 What size motor vehicles may we obtain?

(a) You may only obtain the minimum size of motor vehicle necessary to fulfill your agency's mission in accordance with the following considerations:

(1) You must obtain motor vehicles that achieve maximum fuel efficiency.

(2) Limit motor vehicle body size, engine size and optional equipment to what is essential to meet your agency's mission.

(3) With the exception of motor vehicles used by the President and Vice President and motor vehicles for security and highly essential needs, you must obtain midsize (class III) or smaller sedans.

(4) Obtain large (class IV) sedans only when such motor vehicles are essential to your agency's mission.

(b) Agencies must establish and document a structured vehicle allocation methodology to determine the appropriate size and number of motor vehicles (see FMR Bulletin B-9, located at http://www.gsa.gov/bulletin, for guidance).

§ 102-34.55 Are there fleet average fuel economy standards we must meet?

(a) Yes. 49 U.S.C. 32917 and Executive Order 12375 require that each executive agency meet the fleet average fuel economy standards in place as of January 1 of each fiscal year. The standards for passenger automobiles are prescribed in 49 U.S.C. 32902(b). The Department of Transportation publishes the standards for light trucks and amendments to the standards for passenger automobiles at http://www.dot.gov.

(b) These standards do not apply to military design motor vehicles, law enforcement motor vehicles, or motor vehicles intended for emergency rescue.

§ 102-34.60 How do we calculate the average fuel economy for Government motor vehicles?

You must calculate the average fuel economy for Government motor vehicles as follows:

(a) Because there are so many motor vehicle configurations, you must take an average of all light duty motor vehicles by category that your agency obtained and operated during the fiscal year.

(b) This calculation is the sum of such light duty motor vehicles divided by the sum of the fractions representing the number of motor vehicles of each category by model divided by the unadjusted city/highway mile-per-gallon ratings for that model. The unadjusted city/highway mile-per-gallon ratings for each make and model are published by the Environmental Protection Agency (EPA) for each model year and published at http://www.fueleconomy.gov.

(c) An example follows:

Light trucks:

(i) 600 light trucks acquired in a specific year. These are broken down into:

(A) 200 Six cylinder automatic transmission pick-up trucks, EPA rating: 24.3 mpg, plus

(B) 150 Six cylinder automatic transmission mini-vans, EPA rating: 24.8 mpg, plus

(C) 150 Eight cylinder automatic transmission pick-up trucks, EPA rating: 20.4 mpg, plus

(D) 100 Eight cylinder automatic transmission cargo vans, EPA rating: 22.2 mpg.

(ii) Fleet average fuel economy for light trucks in this case is 23.0 mpg.

§ 102-34.65 How may we request an exemption from the fuel economy standards?

You must submit a written request for an exemption from the fuel economy standards to: Administrator, General Services Administration, ATTN: Deputy Associate Administrator, Office of Travel, Transportation and Asset Management (MT), Washington, DC 20405.

(a) Your request for an exemption must include all relevant information necessary to permit review of the request that the vehicles be exempted based on energy conservation, economy, efficiency, or service. Exemptions may be sought for individual vehicles or categories of vehicles.

(b) GSA will review the request and advise you of the determination within 30 days of receipt. Light duty motor vehicles exempted under the provisions of this section must not be included in calculating your fleet average fuel economy.

§ 102-34.70 What do we do with completed calculations of our fleet vehicle acquisitions?

You must maintain the average fuel economy data for each year's vehicle acquisitions on file at your agency headquarters in accordance with the National Archives and Records Administration, General Records Schedule 10, Motor Vehicle and Aircraft Maintenance and Operations Records, Item 4, Motor Vehicle Report Files. Exemption requests and their disposition must also be maintained with the average fuel economy files.

§ 102-34.75 Who is responsible for monitoring our compliance with fuel economy standards for motor vehicles we obtain?

Executive agencies are responsible for monitoring their own compliance with fuel economy standards for motor vehicles they obtain.

§ 102-34.80 Where may we obtain help with our motor vehicle acquisition plans?

For help with your motor vehicle acquisition plans, contact the: General Services Administration, ATTN: MT, Washington, DC 20405. E-mail: vehicle.policy@gsa.gov.

Subpart C—Identifying and Registering Motor Vehicles

Motor Vehicle Identification

§ 102-34.85 What motor vehicles require motor vehicle identification?

All Government motor vehicles must display motor vehicle identification unless exempted under § 102-34.160, § 102-34.175 or § 102-34.180.

§ 102-34.90 What motor vehicle identification must we display on Government motor vehicles?

Unless exempted under § 102-34.160, § 102-34.175 or § 102-34.180, Government motor vehicles must display the following identification:

(a) “For Official Use Only”;

(b) “U.S. Government”; and

(c) Identification that readily identifies the agency owning the vehicle.

§ 102-34.95 What motor vehicle identification must the Department of Defense (DOD) display on motor vehicles it owns or leases commercially?

Unless exempted under § 102-34.160, § 102-34.175 or § 102-34.180, the following must appear on motor vehicles that the DOD owns or leases commercially:

(a) “For Official Use Only”; and

(b) An appropriate title for the DOD component responsible for the vehicle.

§ 102-34.100 Where is motor vehicle identification displayed?

Motor vehicle identification is displayed as follows:

(a) For most Government motor vehicles, preferably on the official U.S. Government license plate. Some Government motor vehicles may display motor vehicle identification on a decal in the rear window, or centered on both front doors if the vehicle is without a rear window, or where identification on the rear window would not be easily seen.

(b) For trailers, on both sides of the front quarter of the trailer in a conspicuous location.

Note to § 102-34.100: Each agency or activity that uses decals to identify Government motor vehicles is responsible for acquiring its own decals and for replacing them when necessary due to damage or wear.

§ 102-34.105 Before we sell a motor vehicle, what motor vehicle identification must we remove?

You must remove all motor vehicle identification before you transfer the title or deliver the motor vehicle.

License Plates

§ 102-34.110 Must Government motor vehicles use Government license plates?

Yes, you must use Government license plates on Government motor vehicles, with the exception of motor vehicles exempted under § 102-34.160, § 102-34.175 or § 102-34.180.

§ 102-34.115 Can official U.S. Government license plates be used on motor vehicles not owned or leased by the Government?

No, official U.S. Government license plates may only be used on Government motor vehicles.

§ 102-34.120 Do we need to register Government motor vehicles?

If the Government motor vehicle displays U.S. Government license plates and motor vehicle identification, you do not need to register it in the jurisdiction where the vehicle is operated, however, you must register it in the Federal Government Motor Vehicle Registration System. GSA Fleet may register motor vehicles leased from GSA Fleet. Motor vehicles that have been exempted from the requirement to display official U.S. Government license plates under section § 102-34.160, § 102-34.175 or § 102-34.180 must be registered and inspected in accordance with the laws of the jurisdiction where the motor vehicle is regularly operated.

§ 102-34.125 Where may we obtain U.S. Government license plates?

You may obtain U.S. Government license plates for domestic fleets—

(a) By contacting: U.S. Department of Justice, UNICOR, Federal Prison Industries, Inc., 400 First Street, NW., Room 6010, Washington, DC 20534.

(b) For assistance with any issues involving license plates, contact the following office: General Services Administration, ATTN: MT, Washington, DC 20405. E-mail: vehicle.policy@gsa.gov.

Note to § 102-34.125: GSA has established a Memorandum of Understanding (MOU) on behalf of all Federal agencies with Federal Prison Industries (UNICOR) for the procurement of official U.S. Government license plates. Each agency must execute an addendum to this MOU providing plate design and specific ordering and payment information before ordering license plates. Agency field activities should contact their national level Agency Fleet Manager for assistance.

§ 102-34.130 How do we display U.S. Government license plates on Government motor vehicles?

(a) Display official U.S. Government license plates on the front and rear of all Government motor vehicles. The exception is two-wheeled motor vehicles and trailers, which require rear license plates only.

(b) You must display U.S. Government license plates on the Government motor vehicle to which the license plates were assigned.

(c) Display the U.S. Government license plates until the Government motor vehicle is removed from Government service or is transferred outside the agency, or until the plates are damaged and require replacement. U.S. Government license plates shall only be used for one Government motor vehicle and shall not be reissued to another Government motor vehicle.

(d) For motor vehicles owned or commercially leased by DOD, also follow DOD regulations.

§ 102-34.135 What do we do about a lost or stolen license plate?

You must report the loss or theft of license plates as follows:

(a) U.S. Government license plates. Report to your local security office (or equivalent), local police, to GSA Fleet when a GSA Fleet leased motor vehicle is involved, and to the Federal Government Motor Vehicle Registration System.

(b) District of Columbia or State license plates. Report to your local security office (or equivalent) and either the District of Columbia Department of Transportation, or the State Department of Motor Vehicles, as appropriate.

§ 102-34.140 What records do we need to keep on U.S. Government license plates?

You must keep a central record of all U.S. Government license plates for Government motor vehicles. The GSA Fleet must also keep such a record for GSA Fleet vehicles. The record must:

(a) Identify the motor vehicle to which each set of plates is assigned; and

(b) List lost, stolen, destroyed, and voided license plate numbers.

§ 102-34.145 How are U.S. Government license plates coded?

U.S. Government license plate numbers will be preceded by a letter code that designates the owning agency for the motor vehicle. The agency letter codes are listed in GSA Bulletin FMR Bulletin B-11. (FMR bulletins are located at http://www.gsa.gov/bulletin.)

§ 102-34.150 How can we get a new license plate code designation?

To obtain a new license plate code designation, write to the: General Services Administration, ATTN: MT, Washington, DC 20405. E-mail: vehicle.policy@gsa.gov.

Identification Exemptions

§ 102-34.155 What are the types of motor vehicle identification exemptions?

The types of motor vehicle identification exemptions are:

(a) Limited exemption.

(b) Unlimited exemption.

(c) Special exemption.

§ 102-34.160 May we have a limited exemption from displaying U.S. Government license plates and other motor vehicle identification?

Yes. The head of your agency or designee may authorize a limited exemption to the display of U.S. Government license plates and motor vehicle identification upon written certification (see § 102-34.165). For motor vehicles leased from the GSA Fleet, send an information copy of this certification to the: General Services Administration, ATTN: GSA Fleet (QMDB), 2200 Crystal Drive, Arlington, VA 22202.

§ 102-34.165 What information must the limited exemption certification contain?

The certification must state that identifying the motor vehicle would endanger the security of the vehicle occupants or otherwise compromise the agency mission.

§ 102-34.170 For how long is a limited exemption valid?

An exemption granted in accordance with § 102-34.160 may last from one day up to 3 years. If the requirement for exemption still exists beyond 3 years, your agency must re-certify the continued exemption. For a motor vehicle leased from the GSA Fleet, send a copy of the re-certification to the: General Services Administration, ATTN: GSA Fleet (QMDB), 2200 Crystal Drive, Arlington, VA 22202.

§ 102-34.175 What motor vehicles have an unlimited exemption from displaying U.S. Government license plates and motor vehicle identification?

Motor vehicles used primarily for investigative, law enforcement, intelligence, or security duties have an unlimited exemption from displaying U.S. Government license plates and motor vehicle identification when identifying these motor vehicles would interfere with those duties.

§ 102-34.180 What agencies have a special exemption from displaying U.S. Government license plates and motor vehicle identification on some of their vehicles?

Motor vehicles assigned for the use of the President and the heads of executive departments specified in 5 U.S.C. 101 are exempt from the requirement to display motor vehicle identification.

§ 102-34.185 What license plates do we use on motor vehicles that are exempt from motor vehicle identification requirements?

For motor vehicles that are exempt from motor vehicle identification requirements, display the regular license plates of the State, Commonwealth, territory or possession of the United States, or the District of Columbia, where the motor vehicle is principally operated (see § 102-34.120).

§ 102-34.190 What special requirements apply to exempted motor vehicles using District of Columbia or State license plates?

Your agency head must designate an official to authorize the District of Columbia (DC) or State motor vehicle department to issue DC license plates or State license plates for motor vehicles exempt from displaying U.S. Government license plates and motor vehicle identification. The agency head must provide the name and signature of that official to the DC Department of Transportation annually, or to the equivalent State vehicle motor vehicle department, as required. Agencies must pay DC and the States for these license plates in accordance with DC or State policy. Also, for motor vehicles leased from the GSA Fleet, send a list of the new plates to: General Services Administration, ATTN: GSA Fleet (QMDB), 2200 Crystal Drive, Arlington, VA 22202.

§ 102-34.195 Must we submit a report concerning motor vehicles exempted under this subpart?

Yes. If asked, the head of each executive agency must submit a report concerning motor vehicles exempted under this subpart. This report, which has been assigned interagency report control number 1537-GSA-AR, should be submitted to the: General Services Administration, ATTN: MT, Washington, DC 20405. E-mail: vehicle.policy@gsa.gov.

Subpart D—Official Use of Government Motor Vehicles

§ 102-34.200 What is official use of Government motor vehicles?

Official use of a Government motor vehicle is using a Government motor vehicle to perform your agency's mission(s), as authorized by your agency.

§ 102-34.205 May I use a Government motor vehicle for transportation between my residence and place of employment?

No, you may not use a Government motor vehicle for transportation between your residence and place of employment unless your agency authorizes such use after making the necessary determination under 31 U.S.C. 1344 and Part 102-5 of this title. Your agency must keep a copy of the written authorization within the agency and monitor the use of these motor vehicles.

§ 102-34.210 May I use a Government motor vehicle for transportation between places of employment and mass transit facilities?

Yes, you may use a Government motor vehicle for transportation between places of employment and mass transit facilities under the following conditions:

(a) The head of your agency must make a determination in writing, valid for one year, that such use is appropriate and consistent with sound budget policy, and the determination must be kept on file;

(b) There is no safe and reliable commercial or duplicative Federal mass transportation service that serves the same route on a regular basis;

(c) This transportation is made available, space provided, to other Federal employees;

(d) Alternative fuel vehicles should be used to the maximum extent practicable;

(e) This transportation should be provided in a manner that does not result in any additional gross income for Federal income tax purposes; and

(f) Motor vehicle ridership levels must be frequently monitored to ensure cost/benefit of providing and maintaining this transportation.

§ 102-34.215 May Government contractors use Government motor vehicles?

Yes, Government contractors may use Government motor vehicles when authorized in accordance with the Federal Acquisition Regulation (FAR), GSA Fleet procedures, and the following conditions:

(a) Government motor vehicles are used for official purposes only and solely in the performance of the contract;

(b) Government motor vehicles cannot be used for transportation between residence and place of employment, unless authorized in accordance with 31 U.S.C. 1344 and Part 102-5 of this chapter; and

(c) Contractors must:

(1) Establish and enforce suitable penalties against employees who use, or authorize the use of, Government motor vehicles for unofficial purposes or for other than in the performance of the contract; and

(2) Pay any expenses or cost, without Government reimbursement, for using Government motor vehicles other than in the performance of the contract.

§ 102-34.220 What does GSA do if it learns of unofficial use of a Government motor vehicle?

GSA reports the matter to the head of your agency. The agency investigates and may, if appropriate, take disciplinary action under 31 U.S.C. 1349 or may report the violation to the Attorney General for prosecution under 18 U.S.C. 641.

§ 102-34.225 How are Federal employees disciplined for misuse of Government motor vehicles?

If an employee willfully uses, or authorizes the use of, a Government motor vehicle for other than official purposes, the employee is subject to suspension of at least one month or, up to and including, removal by the head of the agency (31 U.S.C. 1349).

§ 102-34.230 How am I responsible for protecting Government motor vehicles?

When a Government motor vehicle is under your control, you must:

(a) Park or store the Government motor vehicle in a manner that reasonably protects it from theft or damage; and

(b) Lock the unattended Government motor vehicle. (The only exception to this requirement is when fire regulations or other directives prohibit locking motor vehicles in closed buildings or enclosures.)

§ 102-34.235 Am I bound by State and local traffic laws?

Yes. You must obey all motor vehicle traffic laws of the State and local jurisdiction, except when the duties of your position require otherwise. You are personally responsible if you violate State or local traffic laws. If you are fined or otherwise penalized for an offense you commit while performing your official duties, but which was not required as part of your official duties, payment is your personal responsibility.

§ 102-34.240 Who pays for parking fees?

You must pay parking fees while operating a Government motor vehicle. However, you can expect to be reimbursed for parking fees incurred while performing official duties.

§ 102-34.245 Who pays for parking fines?

If you are fined for a parking violation while operating a Government motor vehicle, you are responsible for paying the fine and will not be reimbursed.

§ 102-34.250 Do Federal employees in Government motor vehicles have to use all safety devices and follow all safety guidelines?

Yes, Federal employees in Government motor vehicles have to use all provided safety devices including safety belts and follow all appropriate motor vehicle manufacturer safety guidelines.

Subpart E—Replacement of Motor Vehicles

§ 102-34.255 What are motor vehicle replacement standards?

Motor vehicle replacement standards specify the minimum number of years in use or miles traveled at which an executive agency may replace a Government-owned motor vehicle (see § 102-34.270).

§ 102-34.260 May we replace a Government-owned motor vehicle sooner?

Yes. You may replace a Government-owned motor vehicle if it needs body or mechanical repairs that exceed the fair market value of the motor vehicle. Determine the fair market value by adding the current market value of the motor vehicle plus any capitalized motor vehicle additions (such as a utility body or liftgate) or repairs. Your agency head or designee must review the replacement in advance.

§ 102-34.265 May we keep a Government-owned motor vehicle even though the standard permits replacement?

Yes. The replacement standard is a minimum only, and therefore, you may keep a Government-owned motor vehicle longer than shown in § 102-34.270 if the motor vehicle can be operated without excessive maintenance costs or substantial reduction in resale value.

§ 102-34.270 How long must we keep a Government-owned motor vehicle?

You must keep a Government-owned motor vehicle for at least the years or miles shown in the following table, unless it is no longer needed and declared excess:

Table of Minimum Replacement Standards
Motor vehicle type | Years ¹ | Or miles ¹
Sedans/Station Wagons | 3 | 60,000
Ambulances | 7 | 60,000
Buses:
Intercity | n/a | 280,000
City | n/a | 150,000
School | n/a | 80,000
Trucks:
Less than 12,500 pounds GVWR | 6 | 50,000
12,500-23,999 pounds GVWR | 7 | 60,000
24,000 pounds GVWR and over | 9 | 80,000
4- or 6-wheel drive motor vehicles | 6 | 40,000
¹ Minimum standards are stated in both years and miles; use whichever occurs first.

Subpart F—Scheduled Maintenance of Motor Vehicles

§ 102-34.275 What kind of maintenance programs must we have?

You must have a scheduled maintenance program for each motor vehicle you own or lease commercially. This requirement applies to domestic fleets, and is recommended for foreign fleets. The GSA Fleet will develop maintenance programs for GSA Fleet vehicles. The scheduled maintenance program must:

(a) Meet Federal and State emissions and safety standards;

(b) Meet manufacturer warranty requirements;

(c) Ensure the safe and economical operating condition of the motor vehicle throughout its life; and

(d) Ensure that inspections and servicing occur as recommended by the manufacturer or more often if local operating conditions require.

§ 102-34.280 What State inspections must we have for Government motor vehicles?

You must have the following State inspections for Government motor vehicles:

(a) Federally-mandated emissions inspections when required by the relevant State motor vehicle administration or State environmental department. Your agency must pay for these inspections if the fee is not waived. GSA Fleet will pay the cost of these inspections for motor vehicles leased from GSA Fleet; or

(b) For motor vehicles that display license plates issued by a State, Commonwealth, territory, or possession of the United States, motor vehicle safety inspections required by the relevant motor vehicle administration. Your agency must pay for these inspections unless the fee is waived. Payment for these inspections for motor vehicles leased from GSA Fleet is the responsibility of the using agency. Government motor vehicles that display official U.S. Government license plates do not require motor vehicle safety inspections.

§ 102-34.285 Where can we obtain help in setting up a maintenance program?

For help in setting up a maintenance program, contact the: General Services Administration, Attn: Motor Vehicle Policy, Washington, DC 20405. E-mail: vehicle.policy@gsa.gov.

Subpart G—Motor Vehicle Crash Reporting

§ 102-34.290 What forms do I use to report a crash involving a domestic fleet motor vehicle?

Use the following forms to report a domestic fleet crash. The forms should be carried in any domestic fleet motor vehicle.

(a) Standard Form (SF) 91, Motor Vehicle Accident Report. The motor vehicle operator should complete this form at the time and scene of the crash if possible, even if damage to the motor vehicle is not noticeable.

(b) SF 94, Statement of Witness. This form should be completed by any witness to the crash.

§ 102-34.295 To whom do we send crash reports?

Send crash reports as follows:

(a) If the motor vehicle is owned or commercially leased by your agency, follow your internal agency directives.

(b) If the motor vehicle is leased from GSA Fleet, report the crash to GSA in accordance with subpart 101-39.4 of this Title.

Subpart H—Disposal of Motor Vehicles

§ 102-34.300 How do we dispose of a domestic fleet motor vehicle?

After meeting the replacement standards under subpart E of this part, you may dispose of a Government-owned domestic fleet motor vehicle. Detailed instructions for the transfer of an excess motor vehicle to another Federal agency can be found in part 102-36 of this subchapter B, information for the donation of surplus of motor vehicles can be found in part 102-37 of this subchapter B, information for the sale of motor vehicles can be found in part 102-38 of this subchapter B, and information on exchange/sale authority can be found in part 102-39 of this subchapter B.

§ 102-34.305 What forms do we use to transfer ownership when selling a motor vehicle?

Use the following forms to transfer ownership:

(a) SF 97, The United States Government Certificate to Obtain Title to a Motor Vehicle, if both of the following apply:

(1) The motor vehicle will be retitled by a State, Commonwealth, territory or possession of the United States or the District of Columbia; and

(2) The purchaser intends to operate the motor vehicle on highways.

Note to § 102-34.305(a)(2): Do not use SF 97 if the Government-owned motor vehicle is either not designed or not legal for operation on highways. Examples are construction equipment, farm machinery, and certain military-design motor vehicles and motor vehicles that are damaged beyond repair in crashes and intended to be sold as salvage only. Instead, use an appropriate bill of sale or award document. Examples are Optional Form 16, Sales Slip—Sale of Government Personal Property, and SF 114C, Sale of Government Property-Bid and Award.

(b) SF 97 is optional for foreign fleet motor vehicles because foreign governments may require the use of other forms.

Note to § 102-34.305: The original SF 97 is printed on secure paper to identify readily any attempt to alter the form. The form is also pre-numbered to prevent duplicates. State motor vehicle agencies may reject certificates showing erasures or strikeovers.

§ 102-34.310 How do we distribute the completed Standard Form 97?

SF 97 is a 4-part set printed on continuous-feed paper. Distribute the form as follows:

(a) Original SF 97 to the purchaser or donee;

(b) One copy to the owning agency;

(c) One copy to the contracting officer making the sale or transfer of the motor vehicle; and

(d) One copy under owning agency directives.

Subpart I—Motor Vehicle Fueling

§ 102-34.315 How do we obtain fuel for Government motor vehicles?

You may obtain fuel for Government motor vehicles by using:

(a) A Government-issued charge card;

(b) A Government agency fueling facility; or

(c) Personal funds and obtaining reimbursement from your agency, if permitted by your agency. You must use the method prescribed by GSA Fleet to obtain fuel for vehicles leased from GSA fleet.

§ 102-34.320 What Government-issued charge cards may I use to purchase fuel and motor vehicle related services?

(a) You may use a fleet charge card specifically issued for this purpose. These cards are designed to collect motor vehicle data at the time of purchase. Where appropriate, State sales and motor fuel taxes may be deducted from fuel purchases by the fleet charge card services contractor before your agency is billed; otherwise you may need to request reimbursement from each State to which taxes were paid. The GSA contractor issued fleet charge card is the only Government-issued charge card that may be used for GSA Fleet motor vehicles. For further information on acquiring these fleet charge cards and their use, contact the: General Services Administration, ATTN: GSA SmartPay® (QMB), 2200 Crystal Drive, Arlington, VA 22202.

(b) You may use a Government purchase card if you do not have a fleet charge card or if the use of such a Government purchase card is required by your agency mission. However, the Government purchase card does not collect motor vehicle data nor does it deduct State sales and motor fuel taxes.

Note to § 102-34.320: OMB Circular A-123, Appendix B, contains additional specific guidance on the management, issuance, and usage of Government charge cards. The Appendix B guidance consolidates and updates current Governmentwide charge card program requirements and guidance issued by the Office of Management and Budget, GSA, Department of the Treasury, and other Federal agencies. Appendix B provides a single document to incorporate changes, new guidance, or amendments to existing guidance, and establishes minimum requirements and suggested best practices for Government charge card programs that may be supplemented by individual agency policy procedures.

§ 102-34.325 What type of fuel do I use in Government motor vehicles?

(a) Use the minimum grade (octane rating) of fuel recommended by the motor vehicle manufacturer when fueling Government motor vehicles, unless a higher grade of fuel is all that is available locally.

(b) Use unleaded gasoline in all foreign fleet motor vehicles designed to operate on gasoline unless:

(1) Such use would be in conflict with country-to-country or multi-national logistics agreements; or

(2) Such gasoline is not available locally.

(c) You must use alternative fuels in alternative fuel motor vehicles to the fullest extent possible as directed by regulations issued by the Department of Energy implementing the Energy Policy Act and related Executive Orders.

Subpart J—Federal Fleet Report

§ 102-34.330 What is the Federal Fleet Report?

The Federal Fleet Report (FFR) is an annual summary of Federal fleet statistics based upon fleet composition at the end of each fiscal year and vehicle use and cost during the fiscal year. The FFR is compiled by GSA from information submitted by Federal agencies. The FFR is designed to provide essential statistical data for worldwide Federal motor vehicle fleet operations. Review of the report assists Government agencies, including GSA, in evaluating the effectiveness of the operation and management of individual fleets to determine whether vehicles are being utilized properly and to identify high cost areas where fleet expenses can be reduced. The FFR is posted on GSA's Motor Vehicle Management Policy Internet Web site (http://www.gsa.gov/vehiclepolicy).

§ 102-34.335 How do I submit information to the General Services Administration (GSA) for the Federal Fleet Report (FFR)?

(a) Annually, agencies must submit to GSA the information needed to produce the FFR through the Federal Automotive Statistical Tool (FAST), an Internet-based reporting tool. To find out how to submit motor vehicle data to GSA through FAST, consult the instructions from your agency fleet manager and read the documentation at http://fastweb.inel.gov/.

(b) Specific reporting categories, by agency, included in the FFR are—

(1) Inventory;

(2) Acquisitions;

(3) Operating costs;

(4) Miles traveled; and

(5) Fuel used.

Note to § 102-34.335: The FAST system is also used by agency Fleet Managers to provide the Department of Energy with information required by the Energy Policy Act and related Executive Orders. In addition, the Office of Management and Budget (OMB) requires agency Fleet Managers and budget officers to submit annual agency motor vehicle budgeting information to OMB through FAST (see OMB Circular A-11, Preparation, Submission, and Execution of the Budget).

§ 102-34.340 Do we need a fleet management information system?

Yes, you must have a fleet management information system at the department or agency level that —

(a) Identifies and collects accurate inventory, cost, and use data that covers the complete lifecycle of each motor vehicle (acquisition, operation, maintenance, and disposal); and

(b) Provides the information necessary to satisfy both internal and external reporting requirements, including:

(1) Cost per mile;

(2) Fuel costs for each motor vehicle; and

(3) Data required for FAST (see § 102-34.335).

§ 102-34.345 What records do we need to keep?

You are responsible for developing and keeping adequate accounting and reporting procedures for Government motor vehicles. These will ensure accurate recording of inventory, cost, and operational data needed to manage and control motor vehicles, and will satisfy reporting requirements. You must also comply with the General Records Schedules issued by the National Archives and Records Administration (http://www.archives.gov).

Subpart K—Forms

§ 102-34.350 How do we obtain the forms prescribed in this part?

See § 102-2.135 of this chapter for how to obtain forms prescribed in this part.

[FR Doc. E9-6152 Filed 3-19-09; 8:45 am]

BILLING CODE 6820-14-P